DEPARTMENT OF COMMERCE

National Oceanic and Atmospheric Administration

RIN 0648-XF027

Draft Arctic Marine Mammal Disaster Response Guidelines

AGENCY: National Marine Fisheries Service (NMFS), National Oceanic and Atmospheric Administration (NOAA), Commerce.

ACTION: Notice of availability.

SUMMARY: NMFS, in an effort to increase preparedness for wildlife response under the Oil Pollution Act of 1990, has drafted guidelines for marine mammal response in northern Alaska entitled “Arctic Marine Mammal Disaster Response Guidelines.” NMFS invites the public to comment on and/or provide additional information for NMFS to consider in finalizing the guidelines.

DATES: Comments must be submitted on or before March 13, 2017.

ADDRESSES: You may submit comments on this document, identified by NOAA-NMFS-2016-0143, by any one of the following methods;

• Electronic Submission: Submit all electronic public comments via the Federal e-Rulemaking Portal. Go to www.regulations.gov/#!docketDetail;D=NOAA-NMFS-2016-0143 click the “Comment Now!” icon, complete the required fields, and enter or attach your comments;

• Mail: Submit written comments to Sadie Wright, attention Ellen Sebastian, National Marine Fisheries Service, Protected Resources Division, Alaska Region, 709 West 9th Street, P.O. Box 21668, Juneau, AK 99802.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter“N/A” in the required fields if you wish to remain anonymous).

Electronic copies of the Draft Arctic Marine Mammal Disaster Response Guidelines and associated Appendices may be obtained from www.regulations.gov or from the NMFS Alaska Region Web site at alaskafisheries.noaa.gov.

FOR FURTHER INFORMATION CONTACT: Sadie Wright, (907) 586-7630 or Sadie.Wright@noaa.gov.

SUPPLEMENTARY INFORMATION: Marine mammal oil spill response and preparedness in Arctic Alaska presents many challenges including large populations of marine mammals, remote conditions, and lack of infrastructure, equipment, and trained personnel. Additionally, marine mammals are important subsistence and cultural resources for Alaska Native coastal communities, and response efforts must be cooperative with and sensitive to local communities. NMFS developed the Arctic Marine Mammal Disaster Response Guidelines (Guidelines) for the Bering Strait, Northwest Alaska, and the North Slope of Alaska through stakeholder engagement to develop regionally specific and culturally sensitive response strategies.

NMFS sought input on communication and response protocols for carcass collection, de-oiling, tissue sampling, necropsies, and subsistence food issues through meetings with local leaders in Nome, Kotzebue, Wainwright, and Barrow, and teleconferences and email correspondence with outlying communities. These stakeholder meetings resulted in three key recommendations for the Guidelines: (1) Include a communication structure that is locally based and efficient, (2) prioritize public health and food safety, and (3) address the lack of infrastructure, equipment, and trained personnel for response efforts.

These recommendations are addressed by the Guidelines in the following ways:

(1) The local stranding agreement holder or community-appointed organization(s) is the local lead, and communication protocols outline cooperative approaches between stakeholders;

(2) All response protocols are congruent with food safety testing, and the Alaska state public health representative is part of the communication loop; and

(3) Caches of equipment should be developed and stored in hub communities with smaller caches in outlying villages, to include modular and adaptive infrastructure for response activities.

Finally, the Guidelines recommend that trainings be developed for village residents that can be deployed remotely.

The draft Guidelines focus on Arctic marine mammal species under NMFS jurisdiction (principally whales and ice-associated seals), and different approaches may be appropriate for walrus and polar bears, which are managed by the U.S. Fish and Wildlife Service. Any response to marine mammals per these Guidelines should occur in coordination with NMFS through the Incident Command Structure, if put in place for an oil spill or other major incident.

Comments are invited on any aspect of the draft Guidelines. We are particularly interested in maintaining an efficient communication strategy for marine mammal disaster response in the Arctic, and seek suggestions to ensure the Guidelines provide that framework. In addition, NMFS appreciates specific suggestions on how to improve the clarity of the Guidelines. NMFS also requests residents of Utqiaġvik (Barrow) to advise on the preferred name of their town to be used in this planning/communication document. We understand the official name is now Utqiaġvik, but many responders may be more familiar with the name Barrow in the near future.

Dated: January 5, 2017.
Donna S. Wieting,
Director, Office of Protected Resources, National Marine Fisheries Service.

[FR Doc. 2017-00308 Filed 1-10-17; 8:45 am]

BILLING CODE 3510-22-P